DEPARTMENT OF THE INTERIOR

Bureau of Land Management

[NMNM 52377, NMNM 52388, NMNM 52393, and NMNM 52401]

Public Land Order No. 7661; Revocation of Four Withdrawal Orders for Carlsbad and Rio Grande Reclamation Projects; New Mexico

AGENCY: Bureau of Land Management, Interior.

ACTION: Public Land Order.

SUMMARY: This order revokes a Bureau of Reclamation Order and 3 Secretarial Orders in their entireties, as they affect approximately 7,955 acres of lands withdrawn for the Bureau of Reclamation's Carlsbad and Rio Grande Projects. The lands have either been conveyed out of Federal ownership or are no longer needed for project purposes. This order also opens 0.106 acre to sale or exchange.

DATES: Effective Date: April 6, 2006.

FOR FURTHER INFORMATION CONTACT: Gilda Fitzpatrick, BLM New Mexico State Office, 1474 Rodeo Road, Santa Fe, New Mexico 87502, 505-438-7597.

SUPPLEMENTARY INFORMATION: The lands withdrawn for the Carlsbad Reclamation Project by the Secretarial Orders dated April 12, 1916, and May 25, 1928, are no longer needed for the Project so those two withdrawals are no longer necessary. Those lands will not be opened to surface entry or mining until completion of an analysis to determine if any of the lands need special designation. The lands withdrawn for the Rio Grande Reclamation Project by the Secretarial Order dated December 16, 1903, have been conveyed out of Federal ownership. This is a record-clearing action only for those lands. The land withdrawn for the Rio Grande Reclamation Project by the Bureau of Reclamation Order dated August 27, 1953, is no longer needed for the Project, so the withdrawal is no longer necessary and that land will be opened to sale or exchange. Copies of the original withdrawal orders containing a legal description of the lands involved are available from the BLM New Mexico State Office at the address above.

Order

By virtue of the authority vested in the Secretary of the Interior by Section 204 of the Federal Land Policy and Management Act of 1976, 43 U.S.C. 1714 (2000), it is ordered as follows:

1. The Bureau of Reclamation Order dated August 27, 1953 (21 FR 1076), and the Secretarial Orders dated December 16, 1903, April 12, 1916, and May 25, 1928, which withdrew approximately 7,955 acres for the Bureau of Reclamation's Carlsbad and Rio Grande Projects, are hereby revoked in their entireties.

2. The following described land, which was withdrawn for the Bureau of Reclamation's Rio Grande Project by the Bureau of Reclamation Order dated August 27, 1953 (21 FR 1076), is hereby opened and made available for sale or exchange under Sections 203 and 206 of the Federal Land Policy and Management Act of 1976, 43 U.S.C. 1713 and 1716 (2000):

New Mexico Principal Meridian

T. 29 S., R. 4 E.,

Sec. 5, Tract 64.

The area described contains 0.106 acre in Dona Ana County.

Dated: March 20, 2006.
Mark Limbaugh,
Assistant Secretary of the Interior.

[FR Doc. E6-5042 Filed 4-5-06; 8:45 am]

BILLING CODE 4310-MN-P